DEPARTMENT OF ENERGY

48 CFR Part 970

[Docket No. E7-10037]

RIN 1991-AB67

Acquisition Regulation: Implementation of DOE's Cooperative Audit Strategy for Its Management and Operating Contracts; Correction

AGENCY: Office of Procurement and Assistance Management, Department of Energy.

ACTION: Correcting amendments.

SUMMARY: This document corrects a final rule (FR document E7-10037), which was published in the Federal Register of Thursday, May 24, 2007 (72 FR 29077), regarding the Acquisition Regulation: Implementation of DOE's Cooperative Audit Strategy for Its Management and Operating Contracts. This correction revises the date of the clause at 48 CFR 970.5203-1.

DATES: Effective date: July 20, 2007.

FOR FURTHER INFORMATION CONTACT: Helen Oxberger, (202) 287-1332, e-mail: Helen.oxberger@hq.doe.gov.

SUPPLEMENTARY INFORMATION:

Background

The Department of Energy (DOE) in the final regulation that is the subject of this correction amended its Acquisition Regulation (DEAR) by making minor amendments to existing contractor internal audit requirements, through the use of the Cooperative Audit Strategy.

Need for Correction

This correction revises the date of the clause at 48 CFR 970.5203-1.

List of Subjects in 48 CFR Part 970

Government procurement.

Accordingly, 48 CFR part 970 is corrected by making the following correcting amendment:

PART 970—DOE MANAGEMENT AND OPERATING CONTRACTS

1. The authority citation for part 970 continues to read as follows:

Authority: 42 U.S.C. 2201, 2282a, 2282b, 2282c; 42 U.S.C. 7101 et seq.; 41 U.S.C. 418b; 50 U.S.C. 2401 et seq.

970.5203-1 [Corrected]

2. Section 970.5203-1 is amended by revising the date of the clause to read “(JUNE 2007)”.

Issued in Washington, DC, on July 16, 2007.
Edward R. Simpson,
Director, Office of Procurement and Assistance Management, Department of Energy.
David O. Boyd,
Director, Office of Acquisition and Supply Management, National Nuclear Security Administration.

[FR Doc. E7-14060 Filed 7-19-07; 8:45 am]

BILLING CODE 6450-01-P